DEPARTMENT OF EDUCATION

Special Demonstration Programs—National Technical Assistance Projects To Improve Employment Outcomes for Individuals With Disabilities

Catalog of Federal Domestic Assistance (CFDA) Number: 84.235M.

AGENCY: Office of Special Education and Rehabilitative Services, Department of Education.

ACTION: Notice of final priority.

SUMMARY: The Assistant Secretary for the Office of Special Education and Rehabilitative Services announces a priority under the Special Demonstration Programs authorized under section 303(b) of the Rehabilitation Act of 1973, as amended (Rehabilitation Act). The Assistant Secretary may use this priority for competitions in fiscal year (FY) 2011 and later years. We take this action to focus technical assistance (TA) on areas of national need identified by the Rehabilitation Services Administration (RSA) through analyses of information obtained during monitoring and oversight of its vocational rehabilitation (VR) programs. We intend the priority to increase the transfer, utilization, and dissemination of information on promising practices and knowledge from research on topics in the field of rehabilitation that have national significance and to improve the performance of State VR agencies.

DATES: Effective Date: This priority is effective September 14, 2011.

FOR FURTHER INFORMATION CONTACT: Thomas Finch, U.S. Department of Education, 400 Maryland Avenue, SW., Room 5147, Potomac Center Plaza (PCP), Washington, DC 20202-2800. Telephone: (202) 245-7343 or by e-mail: Tom.Finch@ed.gov.

If you use a telecommunications device for the deaf (TDD), call the Federal Relay Service (FRS), toll free, at 1-800-877-8339.

SUPPLEMENTARY INFORMATION:

Purpose of Program: The purpose of this program is to expand and improve the provision of rehabilitation and other services authorized under the Rehabilitation Act, or to support activities that increase the provision, extent, availability, scope, and quality of rehabilitation services provided under the Rehabilitation Act.

Program Authority: 29 U.S.C. 773(b).

We published a notice of proposed priority for this program in the Federal Register on June 20, 2011 (76 FR 35864). The notice contained background information and our reasons for proposing the particular priority.

There are differences between the notice of proposed priority and this notice of final priority as discussed in the Analysis of Comments and Changes section below.

Public Comment: In response to our invitation in the notice of proposed priority, two parties submitted comments on the proposed priority.

Generally, we do not address technical and other minor changes. In addition, we do not address general comments that raise concerns not directly related to the proposed priority.

However, as a result of our further review of the proposed priority since publication of the notice of proposed priority, we have made minor changes for purposes of clarification.

Analysis of Comments and Changes: An analysis of the comments and of any changes in the priority since publication of the notice of proposed priority follows.

Comment: One commenter asserted that the purposes of the priority would be best served by building on the existing capacity of grantees funded under RSA's Training programs, such as current partnerships with the National Clearinghouse of Rehabilitation Training Materials (NCRTM), the regional Technical Assistance and Continuing Education (TACE) centers, and State VR agencies. For example, the commenter stated that the NCRTM currently collaborates with the 10 regional TACE centers to support a centralized resource for training materials. This commenter also emphasized the need to tailor technical assistance to the unique needs and demands of customers.

Discussion: It is our intention that the applicant funded under this priority build upon the work of, and collaborate with, current providers of training and technical assistance in the field of rehabilitation, including the TACE centers and the NCRTM.

As stated in the June 20, 2011, notice of proposed priority, the activities conducted under this priority would supplement the TA provided by the TACE centers by supporting cost-effective and efficient mechanisms for delivering TA at the national level. For example, prior to developing its annual work plan for the provision of TA and continuing education (CE), each regional TACE center conducts an annual needs assessment of State VR agencies and agency partners in its region to identify TA topics. The grantee under this priority would work with the TACE centers to identify topics that would be most appropriately addressed nationally.

The role of the NCRTM is to identify and gather rehabilitation information and training materials for use in conducting pre-service and in-service education and training for rehabilitation personnel and to disseminate rehabilitation information and state-of-the-art training materials and methods. The grantee funded under this priority would be responsible for organizing and making readily available TA materials used and developed under this priority and would not duplicate the work of the NCRTM. We do believe, however, that the expertise of the NCRTM would be of value in assisting the grantee to carry out the activities under this priority.

Finally, while we would expect the successful applicant selected to carry out this priority to have sufficient expertise to appropriately tailor the TA and materials to the unique needs of its audience, we agree that clarifying language would be beneficial.

Changes: We have inserted language in paragraph (c) of the priority to clarify that formats that best meet the needs of the target audience must be used by the grantee in preparing for and conducting TA. In addition, we have revised paragraph (g) of the priority to require the grantee to collaborate with the NCRTM.

Comment: This commenter also encouraged RSA to standardize measures of effectiveness across the providers of training and technical assistance so that quality outcomes can be consistently measured by users or customers.

Discussion: While we recognize that the development of standardized measures of effectiveness that could be used across RSA's TA investments would be beneficial, such an effort is not consistent with the intended scope and resources available for this priority. However, we have added a paragraph to the priority in order to clarify the intent of the requirement in proposed paragraph (c) of the priority to conduct evaluations of the national TA that has been provided.

Change: We have deleted the language at the end of paragraph (c) of the priority describing the grantee's responsibility to conduct evaluations of the technical assistance provided, and have included this requirement in a new paragraph (f) of the priority that clarifies what elements the evaluation must address.

Comment: One commenter applauded the Department for its emphasis on national training programs. This commenter stated that in addition to the value of the information obtained from presentations, national conferences provide networking opportunities for VR professionals who are working in specialized program areas, such as vocational rehabilitation of individuals who are deaf or deaf-blind.

This commenter also expressed the value of having a mechanism for housing and making available TA products. Finally, the commenter emphasized the need to ensure that sufficient funds are available under this grant to support accommodations that may be necessary for VR professionals to fully participate and to support stipends for professionals who otherwise would not be able to attend presentations and national conferences because of State travel and funding restrictions.

Discussion: While we generally agree with these comments, we would like to emphasize that the purpose of this priority is to provide technical assistance in areas of national need and it is not our intent to establish another training program. The Department provides support for the training of VR professionals through the Training programs under section 302 of the Rehabilitation Act (29 U.S.C. 772).

Change: None.

Comment: None.

Discussion: In reviewing the proposed priority further, we decided that it would be important to clarify that the TA products and materials to be organized and archived by the grantee are those that are developed or used in providing TA conducted under this priority. We also wanted to emphasize that the Web site developed by the grantee needs to be easily accessed and used by RSA, the TACE centers, and other RSA grantees.

Changes: As a result of our review, we added clarifying language in paragraphs (d) and (e) of the priority to address these concerns.

Final Priority:

National Technical Assistance.

The Assistant Secretary for Special Education and Rehabilitative Services establishes a priority to support a grant under the Special Demonstration Programs to fund a project to provide national technical assistance (TA) to State vocational rehabilitation (VR) agencies and other entities that carry out VR-related programs administered by the Rehabilitation Services Administration (RSA) to increase the transfer, utilization, and dissemination of current promising practices and knowledge in VR and the employment of individuals with disabilities. The Department intends to award this grant as a cooperative agreement to ensure that there is substantial involvement, communication, and collaboration between RSA and the grantee in carrying out the activities of the grant. (34 CFR 75.200(b)(4)).

In coordination with the Department, the grantee must—

(a) Consult with RSA staff and staff from the Technical Assistance and Continuing Education (TACE) centers to identify issues that may affect State VR agency service delivery, as well as TA needs that are most appropriately addressed on a national basis;

(b) Develop a proposed two-year plan for delivering national TA to VR professionals through conferences, webinars, or other mechanisms, based on the activities conducted under paragraph (a) of this priority. The proposed two-year plan must be developed and approved by RSA within the first three months of the project period and include a schedule for delivering high priority TA activities, recommended methods of delivery, and the estimated costs of providing such TA;

(c) Organize and provide national TA in accordance with the two-year plan approved by RSA, including overseeing all activities related to preparing for and conducting national TA. These activities include, but are not limited to, the following: Determining the target audience for the TA; organizing conferences, webinars, and other national TA; identifying presenters; providing TA and preparing materials in formats that best meet the needs of the target audience; arranging for reasonable accommodations for individuals with disabilities; making logistical arrangements for the national TA; providing travel reimbursement and stipends, where appropriate, to State VR personnel; and providing for continuing education credits;

(d) Organize and archive all TA products and materials developed or used in providing TA conducted under this priority for use by RSA, the TACE centers, and other TA providers, as needed;

(e) Develop and maintain a Web site to make available the products and materials that are developed and/or used in providing TA conducted under this priority so that they can be easily accessed and used by RSA, the TACE centers, and other RSA grantees. The Web site must be capable of supporting other features including, but not limited to, conference and webinar registration, a calendar of events, and links to other related Web sites and resources;

(f) Conduct an evaluation of the national TA provided under this priority, including, at a minimum, the following: The number of TA activities conducted, the identified needs to which these activities responded, and the target audience for each activity; the number and types of TA products organized and archived; the number of visits to the grantee's Web site on a monthly and annual basis; and a quantitative analysis of any customer satisfaction survey findings including information derived from questions about product quality, relevance, and utility; and

(g) Collaborate with other RSA-funded TA providers, including, but not limited to, the TACE centers, the National Clearinghouse of Rehabilitation Training Materials, the American Indian Vocational Rehabilitation Technical Assistance Center, and the Independent Living Training and Technical Assistance Center, in the provision and support of TA activities.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use this priority, we invite applications through a notice in the Federal Register.

Executive Order 12866: This notice has been reviewed in accordance with Executive Order 12866. Under the terms of the order, we have assessed the potential costs and benefits of this regulatory action.

The potential costs associated with this regulatory action are those resulting from statutory requirements and those we have determined as necessary for administering this program effectively and efficiently.

In assessing the potential costs and benefits—both quantitative and qualitative—of this regulatory action, we have determined that the benefits of the priority justify the costs.

We have determined, also, that this final regulatory action does not unduly interfere with State, local, and tribal governments in the exercise of their governmental functions.

Summary of potential costs and benefits:

TA targeted to the specific needs of grantees helps them to improve their performance and to achieve their objectives. Specifically, the provision of cost effective TA to State VR agencies in areas of national need should result in higher quality employment outcomes for the individuals with disabilities whom these agencies serve.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) by contacting the Grants and Contracts Services Team, U.S. Department of Education, 400 Maryland Avenue, SW., room 5075, Potomac Center Plaza, Washington, DC 20202-2550.

Telephone: (202) 245-7363. If you use a TDD, call the FRS, toll free, at 1-800-877-8339.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: August 10, 2011.
Alexa Posny,
Assistant Secretary for Special Education and Rehabilitative Services.

[FR Doc. 2011-20708 Filed 8-12-11; 8:45 am]

BILLING CODE 4000-01-P